DEPARTMENT OF COMMERCE

International Trade Administration

[A-602-805, A-484-802, A-419-802, A-588-864, A-791-818, A-570-889]

Notice of Termination of Antidumping Duty Investigations: Electrolytic Manganese Dioxide From Australia, Greece, Ireland, Japan, South Africa

AGENCY: Import Administration, International Trade Administration, Department of Commerce.

EFFECTIVE DATE: March 2, 2004.

SUMMARY: On February 20, 2004, Kerr-McGee Chemical LLC (Kerr-McGee or Petitioner) withdrew its antidumping petitions, filed on July 31, 2003, regarding Electrolytic Manganese Dioxide (EMD) from Australia, Greece, Ireland, Japan, South Africa. Based on this withdrawal, the Department of Commerce (the Department) is now terminating these investigations.

FOR FURTHER INFORMATION CONTACT: Joseph Welton (Australia) at 202-482-0165, Doug Kirby (Greece) at 202-482-3782, John Drury (Ireland) at 202-482-0195, Mark Flessner (Japan) at 202-482-6312, Matthew Renkey (South Africa) at 202-482-2312, Import Administration, International Trade Administration, U.S. Department of Commerce, 14th Street and Constitution Avenue, NW., Washington, D.C. 20230.

SUPPLEMENTARY INFORMATION:

Case History

On July 31, 2003, the Department received antidumping duty petitions (petitions) filed in proper form by Kerr-McGee. The Petitioner is a domestic producer of EMD. The Department initiated these investigations on August 20, 2003. See Notice of Initiation of Antidumping Duty Investigation: Electrolytic Manganese Dioxide From Australia, Greece, Ireland, Japan, South Africa and the People's Republic of China, 68 FR 51551 (August 27, 2003) (Initiation Notice). On September 22, 2003, the United States International Trade Commission (the ITC) preliminarily determined “that there is a reasonable indication that an industry in the United States is materially injured by reason of imports from Australia, Greece, Ireland, Japan, and South Africa of electrolytic manganese dioxide.” See Electrolytic Manganese Dioxide from Australia, China, Greece, Ireland, Japan, and South Africa, 68 FR 55062 (September 22, 2003). On February 20, 2004, Kerr-McGee withdrew its antidumping petitions by putting on the record of the investigation a letter to the Department. The only other two U.S. companies which are known to produce EMD, Energizer Battery Manufacturing Inc. (Energizer) and Erachem Comilog (Erachem,) both filed letters dated February 20, 2004, stating that each “has no interest in the continuation of these investigations.”

Scope of the Investigation

This investigation covers all manganese dioxide (MnO2) that has been manufactured in an electrolysis process, whether in powder, chip or plate form. Excluded from the scope are natural manganese dioxide (NMD) and chemical manganese dioxide (CMD), including high-grade chemical manganese dioxide (CMD-U). The merchandise subject to this investigation is classified in the Harmonized Tariff Schedule of the United States (HTSUS) at subheading 2820.10.0000. The tariff classifications are provided for convenience and U.S. Customs and Border Protection (CBP) purposes; however, the written description of the scope of the investigation is dispositive.

Termination of the Investigation

On February 20, 2004 the Department received a letter from the Petitioner notifying the Department that the Petitioner is no longer interested in seeking relief and is withdrawing its antidumping petitions, filed on July 31, 2003, regarding EMD from Australia, Greece, Ireland, Japan, South Africa. Under section 734(a)(1)(A) of the Tariff Act of 1930 (the Tariff Act), upon withdrawal of a petition, the administering authority may terminate an investigation after giving notice to all parties to the investigation. We have notified all parties to the investigation and the ITC of Petitioner's withdrawal and our intention to terminate. Section 351.207(b)(1) of the Department's regulations states the Department may terminate provided it concludes that termination is in the public interest. We have determined that termination would be in the public interest given that the Petitioner is no longer interested in seeking relief.

Based on information currently on the record, the Department is terminating the antidumping duty investigations regarding EMD from Australia, Greece, Ireland, Japan, South Africa.

This action is taken pursuant to section 734(a)(1)(A) of the Tariff Act and section 351.207(b)(1) of the Department's regulations.

Dated: February 25, 2004.
James J. Jochum,
Assistant Secretary for Import Administration.

[FR Doc. 04-4615 Filed 3-1-04; 8:45 am]

BILLING CODE 3510-DS-S